DEPARTMENT OF STATE

[Public Notice 7518]

30-Day Notice of Proposed Information Collections: ECA/P/V Youth and Leadership Survey Questions

ACTION: Notice of request for public comment and submission to OMB of proposed collection of information.

SUMMARY: The Department of State has submitted the following information collection requests to the Office of Management and Budget (OMB) for approval in accordance with the Paperwork Reduction Act of 1995.

• Title of Information Collection: ECA/P/V Youth and Leadership Programs: Pre Program Survey Questions.

• OMB Control Number: None.

• Type of Request: New Collection.

• Originating Office: Bureau of Educational and Cultural Affairs, Office of Policy and Evaluation, Evaluation Division (ECA/P/V).

• Form Number: SV2011-0019.

• Respondents: Participants in ECA exchange programs that focus on youth and leadership. Specifically the programs that bring students to the United States. For the purposes of this collection “youth” is defined solely as high-school aged.

• Estimated Number of Respondents: 1,500 annually.

• Estimated Number of Responses: 1,500 annually.

• Average Hours per Response: 20 minutes.

• Total Estimated Burden: 500 hours annually.

• Frequency: On Occasion.

• Obligation To Respond: Voluntary.

• Title of Information Collection: ECA/P/V Youth and Leadership Programs: Post Program Survey Questions.

• OMB Control Number: None.

• Type of Request: New Collection.

• Originating Office: Bureau of Educational and Cultural Affairs, Office of Policy and Evaluation, Evaluation Division (ECA/P/V).

• Form Number: SV2011-0020.

• Respondents: Participants in ECA exchange programs that focus on youth and leadership. Specifically the programs that bring students to the United States. For the purposes of this collection “youth” is defined solely as high-school aged.

• Estimated Number of Respondents: 1,500 annually.

• Estimated Number of Responses: 1,500 annually.

• Average Hours per Response: 25 minutes.

• Total Estimated Burden: 625 hours annually.

• Frequency: On Occasion.

• Obligation To Respond: Voluntary.

• Title of Information Collection: ECA/P/V Youth and Leadership Programs: Follow-up Program Survey Questions.

• OMB Control Number: None.

• Type of Request: New Collection.

• Originating Office: Bureau of Educational and Cultural Affairs, Office of Policy and Evaluation, Evaluation Division (ECA/P/V).

• Form Number: SV2011-0021.

• Respondents: Participants in ECA exchange programs that focus on youth and leadership. Specifically the programs that bring students to the United States. For the purposes of this collection “youth” is defined solely as high-school aged.

• Estimated Number of Respondents: 1,500 annually.

• Estimated Number of Responses: 1,500 annually.

• Average Hours per Response: 25 minutes.

• Total Estimated Burden: 625 hours annually.

• Frequency: On Occasion.

• Obligation To Respond: Voluntary.

DATES: Submit comments to the Office of Management and Budget (OMB) for up to 30 days from July 7, 2011.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Michelle Hale, ECA/P/V, SA-5, C2 Floor, Department of State, Washington, DC 20522-0582, who may be reached on 202-632-6312 or at HaleMJ2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of Proposed Collections

These information collections will allow ECA/P/V to conduct pre-program, post-program and follow-up surveys of exchange participants from various ECA exchange programs that are focused on youth and leadership using pre-approved questions. For the purposes of this collection “youth” is defined solely as high-school aged. Collecting this data will allow ECA/P/V to help inform the overall effectiveness of ECA youth and leadership programs, by gathering data to be used for program support, such as planning and design, as well as to help monitor the program's performance. Respondents are the exchange participants who participate in youth and leadership programs through ECA.

• ECA/P/V: Youth and Leadership Programs: Pre Program Survey Questions: This collection will cover pre-program surveys.

• ECA/P/V: Youth and Leadership Programs: Post Program Survey Questions: This collection will cover post program surveys

• ECA/P/V: Youth and Leadership Programs: Follow-up Program Survey Questions: This collection will cover follow-up program surveys.

Methodology

ECA/P/V estimates that at least 90% of the data collected through these information collections will be done so electronically via a web-based surveying system for ease of use. Non-electronic means such as paper surveys will be used when electronic means are not technically feasible.

Additional Information

These three collections together represent the full spectrum of the performance measurement process (i.e. a pre-program, post-program, and follow-up program surveying), and data collected across these collections will be used to monitor ECA's youth and leadership programs. The proposed questions have been designed to appear across these collections as appropriate, and therefore it is imperative that these questions remain unchanged so as to continue our vital performance measurement work.

Dated: June 27, 2011.
Julianne Paunescu,
Acting Director of the Office of Policy and Evaluation, Bureau of Educational and Cultural Affairs, Department of State.

[FR Doc. 2011-17095 Filed 7-6-11; 8:45 am]

BILLING CODE 4710-05-P